DEPARTMENT OF ENERGY

National Nuclear Security Administration

Defense Programs Advisory Committee

AGENCY: Department of Energy, National Nuclear Security Administration, Office of Defense Programs.

ACTION: Notice of closed meeting.

SUMMARY: This notice announces a closed meeting of the Defense Programs Advisory Committee (DPAC). The Federal Advisory Committee Act (Pub. L. 92-463, 86 Stat. 770) (the Act) requires that public notice of these meetings be announced in the Federal Register. Due to national security considerations, under section 10(d) of the Act and 5 U.S.C. 552b(c), the meeting will be closed to the public and matters to be discussed are exempt from public disclosure under Executive Order 13526 and the Atomic Energy Act of 1954, 42 U.S.C. 2161 and 2162, as amended.

DATES: August 26, 2014, 8:30 a.m. to 5:00 p.m., and August 27, 2014, 8:30 a.m. to 12:30 p.m.

ADDRESSES: U.S. Department of Energy, 1000 Independence Avenue SW., Washington, DC.

FOR FURTHER INFORMATION CONTACT: Mark Visosky, Office of RDT&E (NA-11), National Nuclear Security Administration, U.S. Department of Energy, 1000 Independence Ave. SW., Washington, DC 20585, (202) 287-5270.

SUPPLEMENTARY INFORMATION: Background: The DPAC will provide advice and recommendations to the Deputy Administrator for Defense Programs on the stewardship and maintenance of the Nation's nuclear deterrent. The activities of the DPAC will include, but are not limited to:

a. Periodic reviews of the diverse, major activities of the Office of Defense Programs including:

b.

i. Assessment of the U.S. nuclear weapons stockpile;

ii. The science, technology and engineering infrastructure needed to maintain the U.S. stockpile and the overall U.S. nuclear deterrent; and

iii. The U.S. nuclear weapons manufacturing and production complex facilities and related technologies.

c. Ongoing analysis of the DP mission and its foundation in national strategic policy (including the Nuclear Posture Review, provisions of the New START Treaty and other relevant treaties).

d. Potential application of DP capabilities to broader national security problems.

e. Analysis of DP management issues including facility operations and fiscal matters.

f. Where appropriate, analysis of issues of broader concern to NNSA.

Purpose of the Meeting: The purpose of this meeting of the Defense Programs Advisory Committee is to discuss topics and provide advice and guidance with respect to the National Nuclear Security Administration stockpile stewardship and stockpile maintenance programs.

Type of Meeting: In the interest of national security, the meeting will be closed to the public. The Federal Advisory Committee Act, 5 U.S.C. App. 2 section 10(d), and the Federal Advisory Committee Management Regulation, 41 CFR 102-3.155, incorporate by reference the Government in the Sunshine Act, 5 U.S.C. 552b, which, at 552b(c)(1) and (c)(3) permits closure of meetings where restricted data or other classified matters will be discussed. Such data and matters will be discussed in each session.

This notice is being published less than 15 days prior to the meeting date due to programmatic issues and scheduling conflicts.

Tentative Agenda: Day 1—Swearing-in of Committee Members, Annual Ethics Briefing, Welcome, Topic 1, Topic 2. Day 2—Topic 2 continued, Topic 3.

Public Participation: There will be no public participation in this closed meeting. Those wishing to provide written comments or statements to the Committee are invited to send them to Mark Visosky at the address listed above.

Minutes: The minutes of the meeting will not be available.

Issued in Washington, DC on August 12, 2014.
LaTanya R. Butler,
Deputy Committee Management Officer.

[FR Doc. 2014-19370 Filed 8-13-14; 8:45 am]

BILLING CODE 6450-01-P